DEPARTMENT OF TRANSPORTATION

Federal Aviation Administration

14 CFR Part 39

[Docket No. FAA-2017-1100; Product Identifier 2017-NM-077-AD; Amendment 39-19273; AD 2018-09-16]

RIN 2120-AA64

Airworthiness Directives; Airbus Airplanes

AGENCY: Federal Aviation Administration (FAA), Department of Transportation (DOT).

ACTION: Final rule.

SUMMARY: We are superseding Airworthiness Directive (AD) 2015-15-13, which applied to certain Airbus Model A319 series airplanes; Model A320-211, -212, -214, -231, -232, and -233 airplanes; and Model A321-111, -112, -131, -211, -212, -213, -231, and -232 airplanes. AD 2015-15-13 required a modification of the potable water service panel and waste water service panel, including doing applicable related investigative and corrective actions. This AD requires a modification of the waste water and potable water service panels with new compliance times. This AD also removes certain airplanes from the applicability and adds Model A320-216 airplanes to the applicability. This AD was prompted by an evaluation by the design approval holder (DAH) indicating that the potable water and waste water service panel areas are subject to widespread fatigue damage (WFD). We are issuing this AD to address the unsafe condition on these products.

DATES: This AD is effective June 15, 2018.

The Director of the Federal Register approved the incorporation by reference of certain publications listed in this AD as of June 15, 2018.

ADDRESSES: For service information identified in this final rule, contact Airbus, Airworthiness Office—EIAS, 1 Rond Point Maurice Bellonte, 31707 Blagnac Cedex, France; telephone +33 5 61 93 36 96; fax +33 5 61 93 44 51; email account.airworth-eas@airbus.com; internet http://www.airbus.com. You may view this referenced service information at the FAA, Transport Standards Branch, 2200 South 216th St., Des Moines, WA. For information on the availability of this material at the FAA, call 206-231-3195. It is also available on the internet at http://www.regulations.gov by searching for and locating Docket No. FAA-2017-1100.

Examining the AD Docket

You may examine the AD docket on the internet at http://www.regulations.gov by searching for and locating Docket No. FAA-2017-1100; or in person at the Docket Management Facility between 9 a.m. and 5 p.m., Monday through Friday, except Federal holidays. The AD docket contains this AD, the regulatory evaluation, any comments received, and other information. The address for the Docket Office (telephone 800-647-5527) is Docket Management Facility, U.S. Department of Transportation, Docket Operations, M-30, West Building Ground Floor, Room W12-140, 1200 New Jersey Avenue SE, Washington, DC 20590.

FOR FURTHER INFORMATION CONTACT: Sanjay Ralhan, Aerospace Engineer, International Section, Transport Standards Branch, FAA, 2200 South 216th St., Des Moines, WA 98198; telephone and fax 206-231-3223.

SUPPLEMENTARY INFORMATION:

Discussion

We issued a notice of proposed rulemaking (NPRM) to amend 14 CFR part 39 to supersede AD 2015-15-13, Amendment 39-18223 (80 FR 45857, August 3, 2015) (“AD 2015-15-13”). AD 2015-15-13 applied to certain Airbus Model A319 series airplanes; Model A320-211, -212, -214, -231, -232, and -233 airplanes; and Model A321 series airplanes. The NPRM published in the Federal Register on December 14, 2017 (82 FR 58772). The NPRM was prompted by an evaluation by the DAH indicating that the potable water and waste service panel areas are subject to WFD. The NPRM proposed to require modification of the waste water and potable water service panels with new compliance times. The NPRM also proposed to remove certain airplanes from the applicability and add Model A320-216 airplanes to the applicability. We are issuing this AD to prevent cracking of the potable water and waste water service panel areas, which could result in reduced structural integrity of the airplane.

The European Aviation Safety Agency (EASA), which is the Technical Agent for the Member States of the European Union, has issued EASA AD 2017-0098, dated June 7, 2017 (referred to after this as the Mandatory Continuing Airworthiness Information, or “the MCAI”), to correct an unsafe condition for certain Airbus Model A319 series airplanes; Airbus Model A320-211, -212, -214, -216, -231, -232, and -233 airplanes; and Airbus Model A321-111, -112, -131, -211, -212, -213, -231, and -232 airplanes. The MCAI states:

During the full scale fatigue test on A320-200, it was noticed that, due to fatigue, cracks could initiate at the potable water and waste water service panel areas.

This condition, if not detected and corrected, could affect the structural integrity of the aeroplane.

Prompted by these findings, Airworthiness Limitation Section (ALS) Part 2 tasks were introduced for the affected aeroplanes. Since those actions were taken, Airbus developed production mod 160055 and mod 160056 to embody reinforcements (cold working on certain rivet rows) of the potable water and waste water service panels, and published associated Airbus Service Bulletin (SB) A320-53-1272 and Airbus SB A320-53-1267 for in-service embodiment. Complementary design office studies highlighted that the “Sharklets” installation on certain aeroplanes has a significant impact on the aeroplane structure (particularly, A319 and A320 post-mod 160001, A320 post-SB A320-57-1193 (mod 160080), and A321 post-mod 160021), leading to different compliance times, depending on aeroplane configuration.

Consequently, EASA issued AD 2014-0081 [which corresponds to FAA AD 2015-15-13] to require reinforcement of the potable water and waste water service panels. Accomplishment of these modifications cancelled the need for the related ALS Part 2 Tasks.

Since that [EASA] AD was issued, further investigations linked to the Widespread Fatigue Damage (WFD) analysis highlighted that, to meet the WFD requirements, it is necessary that the affected modification is not accomplished before reaching a certain threshold, by imposing a so-called “window of embodiment”. Consequently, Airbus revised SB A320-53-1272 (now at revision (Rev.) 04) and SB A320-53-1267 (now at Rev. 05).

For the reasons described above, this [EASA] AD retains the requirements of EASA AD 2014-0081, which is superseded, and introduces additional compliance times for those actions.

This AD also removes Model A319 series airplanes on which modification 28162, 28238, and 28342 have been embodied (“Corporate Jet” modifications) from the applicability because production modifications mitigated the risk associated with the unsafe condition. This AD also adds Model A320-216 airplanes to the applicability, because those airplanes are affected by the identified unsafe condition.

You may examine the MCAI in the AD docket on the internet at http://www.regulations.gov by searching for and locating Docket No. FAA-2017-1100.

Comments

We gave the public the opportunity to participate in developing this AD. The following presents the comments received on the NPRM and the FAA's response to each comment. United Airlines stated support for the NPRM.

Request To Fix Typographical Error in Heading of Table 1 of the Proposed AD

Airbus requested that the typographical error in table 1 to paragraphs (g)(1) and (i) of the proposed AD be changed from “portable water” to “potable water.”

We agree with the commenter's request and have revised the heading of table 1 of this AD accordingly.

Request To Fix Typographical Error in a Compliance Time Specified in Table 2 of the Proposed AD

Airbus requested that the typographical error in the proposed compliance time in table 2 to paragraphs (h)(1) and (i) of the proposed AD affecting airplanes “A319, pre-modification 160001 and pre-service bulletin A320-57-1193,” be changed from “28,600 total flight cycles” to “38,600 total flight cycles.”

We agree with the commenter's request and have corrected the specified compliance time in table 2 of this AD accordingly.

Request for Credit for Previous Actions

An anonymous commenter requested that certain service information be added to the Credit for Previous Actions section in the proposed AD. The commenter stated that Alternative Method of Compliance (AMOC) ANM-116-17-195 allows the use of Airbus Service Bulletin A320-53-1272, Revision 04, dated November 29, 2016; and Airbus Service Bulletin A320-53-1267, Revision 05, dated November 29, 2016; with respect to AD 2015-15-13. The commenter pointed out that these are the same revision levels specified for the requirements in the proposed AD.

We do not agree with the request. We recognize that it is possible to have already accomplished Airbus Service Bulletin A320-53-1272, Revision 04, dated November 29, 2016; and Airbus Service Bulletin A320-53-1267, Revision 05, dated November 29, 2016; before this AD becomes effective. However, this service information is required for the actions identified in this AD. Paragraph (f) “Compliance,” of this AD states, “Comply with this AD within the compliance times specified, unless already done.” If operators have already completed the requirements of this AD, then this AD does not require that those actions be repeated. We have made no change to this AD in this regard.

Conclusion

We reviewed the available data, including the comments received, and determined that air safety and the public interest require adopting this AD with the changes described previously and minor editorial changes. We have determined that these changes:

• Are consistent with the intent that was proposed in the NPRM for correcting the unsafe condition; and

• Do not add any additional burden upon the public than was already proposed in the NPRM.

We also determined that these changes will not increase the economic burden on any operator or increase the scope of this AD.

Related Service Information Under 1 CFR Part 51

Airbus has issued Service Bulletin A320-53-1267, Revision 05, dated November 29, 2016, which describes procedures for modifying the waste water service panel. Airbus has also issued Service Bulletin A320-53-1272, Revision 04, dated November 29, 2016, which describes procedures for modifying the potable water service panel. Both modifications include a check of the diameter of the holes of removed fasteners, a related investigative action (rotating probe inspection for cracking on the holes of the removed fasteners) and a corrective action (repair). This service information is unique because it applies to different service panels. This service information is reasonably available because the interested parties have access to it through their normal course of business or by the means identified in the ADDRESSES section.

Explanation of Compliance Time

The compliance time for the replacement specified in this AD for addressing WFD was established to ensure that discrepant structure is replaced before WFD develops in airplanes. Standard inspection techniques cannot be relied on to detect WFD before it becomes a hazard to flight. We will not grant any extensions of the compliance time to complete any AD-mandated service bulletin related to WFD without extensive new data that would substantiate and clearly warrant such an extension.

Costs of Compliance

We estimate that this AD affects 851 airplanes of U.S. registry.

We estimate the following costs to comply with this AD:

Estimated Costs
Action | Labor cost | Parts cost | Cost per product | Cost on U.S. operators
Modification (new action) | 27 work-hours × $85 per hour = $2,295 | $700 | $2,995 | $2,548,745

We have received no definitive data that would enable us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2015-15-13, Amendment 39-18223 (80 FR 45857, August 3, 2015), and adding the following new AD:

2018-09-16 Airbus: Amendment 39-19273; Docket No. FAA-2017-1100; Product Identifier 2017-NM-077-AD.

(a) Effective Date

This AD is effective June 15, 2018.

(b) Affected ADs

This AD replaces AD 2015-15-13, Amendment 39-18223 (80 FR 45857, August 3, 2015) (“AD 2015-15-13”).

(c) Applicability

This AD applies to the airplanes identified in paragraphs (c)(1), (c)(2), and (c)(3) of this AD, certificated in any category, except for those airplanes on which Airbus modification 160055 or modification 160056 has been embodied in production, and except for Model A319 series airplanes on which modification 28162, 28238, and 28342 have been embodied (“Corporate Jet”).

(1) Airbus Model A319-111, -112, -113, -114, -115, -131, -132, and -133 airplanes.

(2) Airbus Model A320-211, -212, -214, -216, -231, -232, and -233 airplanes.

(3) Airbus Model A321-111, -112, -131, -211, -212, -213, -231, and -232 airplanes.

(d) Subject

Air Transport Association (ATA) of America Code 53, Fuselage.

(e) Reason

This AD was prompted by an evaluation by the design approval holder (DAH) indicating that the potable water and waste water service panel areas are subject to widespread fatigue damage (WFD). We are issuing this AD to prevent cracking of the potable water and waste water service panel areas, which could result in reduced structural integrity of the airplane.

(f) Compliance

Comply with this AD within the compliance times specified, unless already done.

(g) Modification of the Potable Water Service Panel

(1) Within the compliance times specified in table 1 to paragraphs (g)(1) and (i) of this AD, as applicable, modify the potable water service panel, including doing a check of the diameter of the holes of removed fasteners, and do all applicable related investigative and corrective actions, in accordance with the Accomplishment Instructions of Airbus Service Bulletin A320-53-1272, Revision 04, dated November 29, 2016, except as required by paragraph (g)(2) of this AD. Do all applicable related investigative and corrective actions before further flight.

BILLING CODE 4910-13-P

(2) Where Airbus Service Bulletin A320-53-1272, Revision 04, dated November 29, 2016, specifies to contact Airbus for appropriate action, and specifies that action as “RC” (Required for Compliance): Before further flight, accomplish corrective actions in accordance with the procedures specified in paragraph (m)(2) of this AD.

(h) Modification of the Waste Water Service Panel

(1) Within the compliance times specified in table 2 to paragraphs (h)(1) and (i) of this AD, as applicable, modify the waste water service panel, including doing a check of the diameter of the holes of removed fasteners, and do all applicable related investigative and corrective actions in accordance with the Accomplishment Instructions of Airbus Service Bulletin A320-53-1267, Revision 05, dated November 29, 2016, except as required by paragraph (h)(2) of this AD. Do all applicable related investigative and corrective actions before further flight.

(2) Where Airbus Service Bulletin A320-53-1267, Revision 05, dated November 29, 2016, specifies to contact Airbus for appropriate action, and specifies that action as “RC” (Required for Compliance): Before further flight, accomplish corrective actions in accordance with the procedures specified in paragraph (m)(2) of this AD.

(i) Corrective Action for Airplanes With Certain Modifications

For airplanes on which the modification, as required by paragraph (g) or (h) of this AD, as applicable, was accomplished before reaching the applicable minimum compliance time as defined in table 1 to paragraphs (g)(1) and (i) of this AD or table 2 to paragraphs (h)(1) and (i) of this AD: Before exceeding 60,000 flight cycles since the airplane's first flight, contact the Manager, International Section, Transport Standards Branch, FAA; or the European Aviation Safety Agency (EASA); or Airbus's EASA Design Organization Approval (DOA) for approved corrective action instructions and accomplish those instructions accordingly. If approved by the DOA, the approval must include the DOA-authorized signature.

(j) Terminating Action for Airplanes on Which the Potable Water Service Panel Modification Is Done

Modification of an airplane as required by paragraph (g) of this AD terminates the requirement for accomplishing the ALS Part 2 task for that airplane as specified in table 3 to paragraph (j) of this AD, as applicable.

(k) Terminating Action for Airplanes on Which the Waste Water Service Panel Modification Is Done

Modification of an airplane as required by paragraph (h) of this AD terminates the requirement for accomplishing the ALS Part 2 task for that airplane as specified in table 4 to paragraph (k) of this AD, as applicable.

BILLING CODE 4910-13-C

(l) Credit for Previous Actions

(1) This paragraph provides credit for actions required by paragraph (g) of this AD if those actions were performed before the effective date of this AD using the service information in paragraphs (l)(1)(i) through (l)(1)(iv) of this AD.

(i) Airbus Service Bulletin A320-53-1272, Revision 00, dated January 10, 2013, which is not incorporated by reference in this AD.

(ii) Airbus Service Bulletin A320-53-1272, Revision 01, dated August 6, 2013, which is not incorporated by reference in this AD.

(iii) Airbus Service Bulletin A320-53-1272, Revision 02, dated May 19, 2014, which was incorporated by reference in AD 2015-15-13.

(iv) Airbus Service Bulletin A320-53-1272, Revision 03, dated November 26, 2015, which is not incorporated by reference in this AD.

(2) This paragraph provides credit for actions required by paragraph (h) of this AD if those actions were performed before the effective date of this AD using the service information in paragraphs (l)(2)(i) through (l)(2)(v) of this AD.

(i) Airbus Service Bulletin A320-53-1267, Revision 00, dated June 24, 2013, which is not incorporated by reference in this AD.

(ii) Airbus Service Bulletin A320-53-1267, Revision 01, dated October 2, 2013, which is not incorporated by reference in this AD.

(iii) Airbus Service Bulletin A320-53-1267, Revision 02, dated May 19, 2014, which was incorporated by reference in AD 2015-15-13.

(iv) Airbus Service Bulletin A320-53-1267, Revision 03, dated November 26, 2015, which is not incorporated by reference in this AD.

(v) Airbus Service Bulletin A320-53-1267, Revision 04, dated February 1, 2016, which is not incorporated by reference in this AD.

(m) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (n)(2) of this AD. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Section, Transport Standards Branch, FAA; or the EASA; or Airbus's EASA DOA. If approved by the DOA, the approval must include the DOA-authorized signature.

(3) Required for Compliance (RC): Except as required by paragraphs (g)(2) and (h)(2) of this AD: If any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(n) Related Information

(1) Refer to Mandatory Continuing Airworthiness Information (MCAI) EASA AD 2017-0098, dated June 7, 2017, for related information. This MCAI may be found in the AD docket on the internet at http://www.regulations.gov by searching for and locating Docket No. FAA-2017-1100.

(2) For more information about this AD, contact Sanjay Ralhan, Aerospace Engineer, International Section, Transport Standards Branch, FAA, 2200 South 216th St., Des Moines, WA 98198; telephone and fax 206-231-3223.

(3) Service information identified in this AD that is not incorporated by reference is available at the addresses specified in paragraphs (o)(3) and (o)(4) of this AD.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Service Bulletin A320-53-1272, Revision 04, dated November 29, 2016.

(ii) Airbus Service Bulletin A320-53-1267, Revision 05, dated November 29, 2016.

(3) For service information identified in this AD, contact Airbus, Airworthiness Office—EIAS, 1 Rond Point Maurice Bellonte, 31707 Blagnac Cedex, France; telephone +33 5 61 93 36 96; fax +33 5 61 93 44 51; email account.airworth-eas@airbus.com; internet http://www.airbus.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on April 27, 2018.
Michael Kaszycki,
Acting Director, System Oversight Division, Aircraft Certification Service.

[FR Doc. 2018-09862 Filed 5-10-18; 8:45 am]

BILLING CODE 4910-13-P